INTERNATIONAL TRADE COMMISSION

[Investigation Nos. 701-TA-405, 406, and 408 and 731-TA-899-901 and 906-908 (Second Review)]

Hot-Rolled Steel Products From China, India, Indonesia, Taiwan, Thailand, and Ukraine; Revised Schedule for the Subject Five Year Reviews

AGENCY: United States International Trade Commission.

ACTION: Notice.

DATES: Effective Date: October 21, 2013.

FOR FURTHER INFORMATION CONTACT: Nathanael Comly (202-205-3174), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On April 16, 2013, the Commission established a schedule for the conduct of the subject five year reviews (78 FR 24435, April 25, 2013). Subsequently, due to the lapse in appropriations and ensuing cessation of Commission operations, the Commission postponed the hearing in this matter. The Commission, therefore, is revising the remainder of its schedule to conform to the revised hearing date.

The Commission's new schedule for these reviews is as follows: The hearing will be held at the U.S. International Trade Commission Building at 9:30 a.m. on October 31, 2013; the deadline for filing posthearing briefs is November 8, 2013; the Commission will make its final release of information on December 10, 2013; and final party comments are due on December 12, 2013.

For further information concerning these reviews see the Commission's notice cited above and the Commission's Rules of Practice and Procedure, part 201, subparts A through E (19 CFR part 201), and part 207, subparts A and F (19 CFR part 207).

Authority: These reviews are being conducted under authority of title VII of the Tariff Act of 1930; this notice is published pursuant to section 207.62 of the Commission's rules.

By order of the Commission.
Issued: October 22, 2013.
Lisa R. Barton,
Acting Secretary to the Commission.

[FR Doc. 2013-25129 Filed 10-24-13; 8:45 am]

BILLING CODE 7020-02-P